DEPARTMENT OF THE INTERIOR

Bureau of Land Management

[NV-030-06-1232-EA-NV15]

Temporary Closure of Public Lands During Competitive Special Recreation Permitted Events: Nevada, Carson City Field Office; Closure Number: NV-030-06-002

AGENCY: Bureau of Land Management, Interior.

ACTION: Temporary closure of affected public lands in Lyon, Storey, Churchill, Carson, Douglas, Mineral, Washoe, Nye, Lincoln and Esmeralda Counties.

SUMMARY: The Bureau of Land Management (BLM), Carson City Field Office, announces the temporary closure of selected public lands under its administration in Lyon, Storey, Churchill, Carson, Douglas, Mineral, Washoe, and Nye Counties. By agreement with the Ely and Battle Mountain Field Offices the Tonopah Field Station and the Humboldt-Toiyabe National Forest, those lands affected by the Vegas to Reno OHV Race in Lincoln, Nye and Esmeralda Counties are included in this closure. This action is taken to provide for public and participant safety and to protect adjacent natural and cultural resources during the conduct of permitted special recreation events.

EFFECTIVE DATES: March through November 2006. Events may be canceled or rescheduled with short notice due to weather, sudden change in resource conditions, emergency actions, or at the discretion of the authorizing officer.

FOR FURTHER INFORMATION CONTACT: Fran Hull, Outdoor Recreation Planner, Carson City Field Office, Bureau of Land Management, 5665 Morgan Mill Road, Carson City, Nevada 89701, Telephone: (775) 885-6161.

SUPPLEMENTARY INFORMATION: This notice applies to public lands directly affected by and adjacent to competitive special events for which a BLM Special Recreation Permit (SRP) has been authorized. Examples of events include: motorized Off Highway Vehicle (OHV) races, mountain bike races; horse endurance rides and dog trials. Race and ride events are conducted along dirt roads, trails, and washes approved for such use. One or more events occur monthly from March through November. Unless otherwise posted, race closure periods are from 5 a.m. race day until race finish or until the event has cleared between affected check point locations. Closures may occupy 2 to 24 hour periods. The general public will be advised of event and closure specifics via on-the-ground signage, public letters, e-mail, or local newspaper notices. The public may call to confirm or discuss closures at anytime prior to an announced event date. Locations commonly used for permitted events include, but are not limited to:

1. Lemmon Valley MX Area—Washoe Co., T. 21 N., R. 19 E., Sec. 8.

2. Hungry Valley Recreation Area—Washoe Co., T. 21-23 N., R. 20 E.

3. Pine Nut Mountains—Carson, Douglas & Lyon Counties: T. 11-16 N., R. 20-24 E.

4. Virginia City/Jumbo Areas—Storey and Washoe Counties: T. 16-17 N., R. 20-21 E.

5. Yerington/Weeks Areas—Lyon Co.: T. 12-16 N., R. 23-27 E.

6. Fallon Area (Including Sand Mtn.)—Churchill Co.: T. 14-18 N., R. 27-32 E.

7. Hawthorne Area—Mineral County: T. 5-14 N., R. 31½-36 E.

8. Vegas to Reno OHV Race Route: Lincoln, Nye, Esmeralda, Mineral, Churchill, and Lyon Counties: From Maynard Lake to Dayton, Nevada—approximately 575 miles in the vicinity of Highway 95.

Marking and effect of closure: BLM lands to be temporarily closed to public use include the length, width and certain lands adjacent to those roads, trails or areas identified as the race route or event area by colorful flagging, chalk arrows in the dirt and directional arrows attached to wooden stakes. The authorized applicants or their representatives are authorized and required to post warning signs, control access to, and clearly mark the event routes, common access roads and road crossings during closure periods.

Spectator and support vehicles may be driven on open roads only. Spectators may observe motorized race events from specified locations (such as designated spectator, pit and check point areas) or as directed by event and agency officials.

Other permitted and recreational uses generally affected by a Temporary Closure include: Road and trail uses for livestock management and mineral exploration, utility maintenance, casual public land exploration, camping, hunting, or shooting of any kind of weapon including paint ball.

Exceptions: Closure restrictions do not apply to race officials, medical/rescue, law enforcement, and agency personnel monitoring the events.

Authority: 43 CFR 8364.1 and 43 CFR, part 2930.

Penalties. Any person failing to comply with the closure orders may be subject to imprisonment for not more than 12 months, or a fine in accordance with the applicable provisions of 18 U.S.C. 3571, or both.

Dated: February 16, 2006.
Donald T. Hicks,
Manager, Carson City Field Office.

[FR Doc. E6-3904 Filed 3-16-06; 8:45 am]

BILLING CODE 4310-HC-P